DEPARTMENT OF COMMERCE

International Trade Administration

[A-475-820, A-588-843, A-580-829, A-469-807, A-583-828]

Stainless Steel Wire Rod from Italy, Japan, the Republic of Korea, Spain, and Taiwan: Continuation of Antidumping Duty Orders

AGENCY: Import Administration, International Trade Administration, Department of Commerce.

SUMMARY: As a result of the determinations by the Department of Commerce (the Department) and the International Trade Commission (ITC) that revocation of the antidumping duty orders on stainless steel wire rod (SSWR) from Italy, Japan, the Republic of Korea (Korea), Spain, and Taiwan would likely lead to a continuation or recurrence of dumping and material injury to an industry in the United States, the Department is publishing a notice of continuation of the antidumping duty orders.

EFFECTIVE DATE: June 17, 2010

FOR FURTHER INFORMATION: Holly Phelps or Elizabeth Eastwood, AD/CVD Operations, Office 2, Import Administration, International Trade Administration, U.S. Department of Commerce, 14th Street and Constitution Avenue, NW, Washington, DC 20230; telephone: (202) 482-0656 and (202) 482-3874, respectively.

SUPPLEMENTARY INFORMATION:

Background

On July 1, 2009, the Department published the notice of initiation of the sunset reviews of the antidumping duty orders on SSWR from Italy, Japan, Korea, Spain, and Taiwan pursuant to section 751(c) of the Tariff Act of 1930, as amended (the Act). See Initiation of Five-year (“Sunset”) Review, 74 FR 31412 (July 1, 2009).

As a result of its reviews, the Department determined that revocation of the antidumping duty orders on SSWR from Italy, Japan, Korea, Spain, and Taiwan would likely lead to a continuation or recurrence of dumping and, therefore, notified the ITC of the magnitude of the margins likely to prevail should the orders be revoked. See Stainless Steel Wire Rod From Italy, Japan, the Republic of Korea, Spain, and Taiwan: Final Results of the Expedited Sunset Reviews of the Antidumping Duty Orders, 74 FR 56179 (Oct. 30, 2009).

On May 14, 2010, the ITC published its determination, pursuant to section 751(c) of the Act, that revocation of the antidumping duty orders on SSWR from Italy, Japan, Korea, Spain, and Taiwan would likely lead to a continuation or recurrence of material injury to an industry in the United States within a reasonably foreseeable future. See Stainless Steel Wire Rod From Italy, Japan, Korea, Spain, and Taiwan, 75 FR 32503 (June 8, 2010).

Scope of the Orders

The merchandise covered by these orders is SSWR, which comprises products that are hot-rolled or hot-rolled annealed and/or pickled and/or descaled rounds, squares, octagons, hexagons or other shapes, in coils, that may also be coated with a lubricant containing copper, lime, or oxalate. SSWR is made of alloy steels containing, by weight, 1.2 percent or less of carbon and 10.5 percent or more of chromium, with or without other elements. These products are manufactured only by hot-rolling or hot-rolling, annealing, and/or pickling and/or descaling, are normally sold in coiled form, and are of solid cross-section. The majority of SSWR sold in the United States is round in cross-sectional shape, annealed and pickled, and later cold-finished into stainless steel wire or small-diameter bar.

The most common size for such products is 5.5 millimeters or 0.217 inches in diameter, which represents the smallest size that normally is produced on a rolling mill and is the size that most wire-drawing machines are set up to draw. The range of SSWR sizes normally sold in the United States is between 0.20 inches and 1.312 inches diameter. Two stainless steel grades, SF20T and K-M35FL, are excluded from the scope of the orders. The chemical makeup for the excluded grades is as follows:

SF20T
Carbon | 0.05 max
Chromium | 19.00/21.00
Manganese | 2.00 max
Molybdenum | 1.50/2.50
Phosphorous | 0.05 max
Lead | added (0.10/0.30)
Sulfur | 0.15 max
Tellurium | added (0.03 min)
Silicon | 1.00 max

K-M35FL
Carbon | 0.015 max
Nickel | 0.30 max
Silicon | 0.70/1.00
Chromium | 12.50/14.00
Manganese | 0.40 max
Lead | 0.10/0.30
Phosphorous | 0.04 max
Aluminum | 0.20/0.35
Sulfur | 0.03 max

The products subject to these orders are currently classifiable under subheadings 7221.00.0005, 7221.00.0015, 7221.00.0030, 7221.00.0045, and 7221.00.0075 of the Harmonized Tariff Schedule of the United States (HTSUS). Although the HTSUS subheadings are provided for convenience and customs purposes, the written description of the scope of these orders is dispositive.

Continuation of the Orders

As a result of these determinations by the Department and the ITC that revocation of the antidumping duty orders would likely lead to a continuation or recurrence of dumping and material injury to an industry in the United States, pursuant to section 751(d)(2) of the Act, the Department hereby orders the continuation of the antidumping duty orders on SSWR from Italy, Japan, Korea, Spain, and Taiwan. U.S. Customs and Border Protection will continue to collect antidumping duty cash deposits at the rates in effect at the time of entry for all imports of subject merchandise.

The effective date of the continuation of the orders will be the date of publication in the Federal Register of this notice of continuation. Pursuant to section 751(c)(2) of the Act, the Department intends to initiate the next five-year reviews of the orders not later than 30 days prior to the fifth anniversary of the effective date of continuation.

These five-year (sunset) reviews and this notice are in accordance with section 751(c) of the Act and published pursuant to section 777(i)(1) of the Act.

Dated: June 10, 2010.
Ronald K. Lorentzen,
Deputy Assistant Secretary for Import Administration.

[FR Doc. 2010-14665 Filed 6-16-10; 8:45 am]

BILLING CODE S